DEPARTMENT OF ENERGY

Agency Information Collection Under Review by the Office of Management and Budget

AGENCY: Department of Energy.

ACTION: Submission for Office of Management and Budget review for extension of currently approved collection; comment request.

SUMMARY: The Department of Energy (DOE) intends to extend for three years, a currently approved information collection package with the Office of Management and Budget (OMB) under the Paperwork Reduction Act of 1995. The Information Management collection package, OMB No. 1910-0100, collects the information from the Department's Management and Operating (M&O) contractors concerning the management and administration of their information resources. The collection of this data is critical to the Department. It is used to ensure that the Department's information resources are properly managed. The data collected involves telecommunications and printing management.

DATES AND ADDRESSES: Written comments and recommendations for this collection package must be mailed within April 1, 2002 to the OMB Desk Officer, Office of Information and Regulatory Affairs, Office of Management and Budget, New Executive Office Building, Washington, DC 20503. If you anticipate that you will be submitting comments, but find it difficult to do so within the period of time allowed by this notice, please advise the OMB Desk Officer of your intention to make a submission as soon as possible. The Desk Officer maybe telephoned at (202) 395-7318. In addition, please notify the DOE contact listed in this notice.

FOR FURTHER INFORMATION CONTACT: Requests for copies of the Department's Paperwork Reduction Act Submission and other information should be directed to Ms. Susan L. Frey, U.S. Department of Energy, Director, Records Management Division, (IM-11), Office of the Chief Information Officer, Germantown, MD 20874-1290. Ms. Frey can be contacted by telephone at (301) 903-3666 or e-mail at Susan.Frey@hq.doe.gov.

SUPPLEMENTARY INFORMATION: This package contains (1) Current OMB No. 1910-0100; (2) Package Title: Information Management; (3) Summary: Request for a three-year extension of a currently approved information collection package with the Office of Management and Budget (OMB) under the Paperwork Reduction Act of 1995; (4) Purpose: This information is required for management oversight of DOE M&O contracts/contractors and to ensure that the administrative and information management requirements of the contract are managed efficiently and effectively; (5) Type of Respondents: 438 DOE management and operating contractors; (6) Estimated Number of Burden Hours: 6,814; (7) Number of collections: This package contains eight (8) collections.

Statutory Authority: Sections 3507(h)(1) of the Paperwork Reduction Act of 1995 (Public Law 104-13) (44 U.S.C. 3501 et seq).

Issued in Washington, DC on February 13, 2002.
Susan L. Frey,
Director, Records Management Division, Office of the Chief Information Officer.

[FR Doc. 02-4779 Filed 2-27-02; 8:45 am]

BILLING CODE 6450-01-P